DEPARTMENT OF EDUCATION

[CFDA No. 84.206A]

Office of Elementary and Secondary Education; Jacob K. Javits Gifted and Talented Students Education Program; Notice Inviting Applications for New Awards for Fiscal Year (FY) 2003 and Establishing Two Absolute Priorities

Purpose of Program: The purpose of the Jacob K. Javits Gifted and Talented Students Education Program (the Javits program) is to carry out a coordinated program of scientifically based research, demonstration projects, innovative strategies, and similar activities designed to build and enhance the ability of elementary and secondary schools nationwide to meet the special educational needs of gifted and talented students.

Eligible Applicants: State educational agencies (SEAs), local educational agencies (LEAs), institutions of higher education, other public agencies, and other private agencies and organizations (including Indian tribes and Indian organizations and Native Hawaiian organizations). Under the first priority in this competition, all of these entities are eligible to apply. Under the second priority, an SEA and one or more LEAs collaborate on the project and either the SEA or an LEA is eligible to apply and to serve as the fiscal agent.

Notification of Intent to Apply for Funding: We strongly encourage each potential applicant to notify us by June 6, 2003, of its intent to submit an application for funding. We will be able to develop a more efficient process of reviewing grant applications if we have an early estimate of the number of entities that intend to apply for funding under this competition. Notifications should be sent by e-mail to the following Internet address: jacobk.javits@ed.gov.

Please put “Notice of Intent, Priority 1” or “Notice of Intent, Priority 2” in the subject line. Applicants that choose not to provide this e-mail notification may still apply for funding.

Applications Available: May 20, 2003.

Deadline for Transmittal of Applications: July 7, 2003.

Deadline for Intergovernmental Review: Septrember 2, 2003.

Available Funds: Priority 1—$5,100,000. Priority 2—$3,676,875.

Estimated Number of Awards: Priority 1—10. Priority 2—12.

Estimated Size of Awards: Priority 1—$400,000—$600,000. Priority 2—$200,000—$300,000.

Estimated Average Size of Awards: Priority 1—$500,000. Priority 2—$250,000.

Note: These estimates are projections for the guidance of potential applicants. The Department is not bound by any estimates in this notice.)

Project Period: Up to 60 months for the first priority and up to 36 months for the second priority.

Applicable Regulations: The Education Department General Administrative Regulations (EDGAR) in 34 CFR parts 74, 75, 77, 79, 80, 81, 82, 85, 97, 98, and 99.

Page Limit: The application narrative is where you, the applicant, address the selection criteria that reviewers use to evaluate your application. Applicants are strongly encouraged to limit the program narrative (text plus all figures, charts, tables and diagrams) to the equivalent of 25 pages, using the following standards:

• A page is 8.5″ x 11″, on one side only, with 1″ margins at the top, bottom and both sides.

• Double space (no more than three lines per vertical inch) all text in the application narrative.

• Use a font that is either 12 point or larger or no smaller than 10 pitch (characters per inch).

• The page limit does not apply to Standard Form 424; the project abstract; the budget section, including the narrative budget justification; the assurances and certifications; or the resumes, bibliography, or letters of support.

We have found that reviewers are able to conduct the highest-quality review when applications are concise and easy to read, with pages consecutively numbered.

SUPPLEMENTARY INFORMATION: The Assistant Secretary for Elementary and Secondary Education invites applications for new grant awards for FY 2003 for the Javits program. In 2001, the Javits program was rewritten in its entirety by Pub. L. 107-110, the No Child Left Behind Act (NCLB) as the “Jacob K. Javits Gifted and Talented Students Education Act of 2001” (The Act), and is now located in title V, part D, subpart 6 of the Elementary and Secondary Education Act of 1965, as amended (ESEA), under which these grants are authorized (20 U.S.C 7253 et seq.). The Act supports a coordinated program of research, demonstration projects, and other activities designed to build and enhance the ability of schools nationwide to serve gifted and talented students.

The Assistant Secretary also announces two final absolute priorities and final selection criteria to govern this competition and the FY 2003 Javits program grant awards. In accordance with § 5465(a) and (b) of the statute, the Assistant Secretary intends to give priority to projects designed to: (1) develop new information that improves the capability of schools to plan, conduct, and improve programs to identify and serve gifted and talented students and, (2) identify and serve students from underrepresented groups, including economically disadvantaged, limited English proficient, and disabled students. The Assistant Secretary also will implement § 5464(c) of the statute, requiring funding of certain projects when appropriation levels for the Javits program in a given year exceed the FY 2001 appropriation.

Accordingly, the Assistant Secretary will make awards under the following two absolute priorities to encourage activities that will contribute to an understanding of the most effective ways to educate gifted and talented students. These priorities will help to target funds to high-needs populations within the general program purpose of assisting States and local school districts to better serve gifted and talented students.

The Assistant Secretary's first priority implements § 5465(a) of the statute and focuses on projects that propose to develop, conduct, “scale up”, and evaluate programs that identify and serve gifted and talented students who are economically disadvantaged or limited English proficient, or who have disabilities, and who may not be identified and served through traditional assessment methods. According to a 2002 report by the National Research Council titled “Minority Students in Special and Gifted Education,” these groups of students remain significantly underrepresented at the highest levels of performance. Over the past decade, small-scale model projects and intervention strategies have produced some evidence of effectiveness in raising student achievement to high levels. The goal of this first priority is to expand upon, field-test, and evaluate research-based interventions that have existing evidence of success in increasing the proportion of economically disadvantaged, limited English proficient, or disabled students performing at high levels of achievement. Based on the experience of previous grant recipients, the Assistant Secretary believes that these projects will be most successful if they are carried out by applicants that can demonstrate an expertise in: education research and program evaluation, one or more of the core academic subject areas (English, reading or language arts, mathematics, science, foreign languages, civics and government, economics, arts, history, and geography), the needs of disadvantaged or other underrepresented students, and gifted and talented education. In order to meet the absolute priority, projects must: (1) build on successful interventions and strategies that show evidence that they have increased student achievement, (2) draw on expertise in research and program evaluation, disciplinary knowledge in the core subject areas, the needs of underrepresented groups, and gifted and talented education, (3) expand upon the intervention by carrying it out in multiple sites, and (4) propose a careful research and evaluation plan.

The Assistant Secretary establishes this first priority after having reviewed the relevant research base and the evaluations of previously funded projects, holding discussions with project directors, and consulting with experts in the field.

The Assistant Secretary's second absolute priority implements the “Special Rule” in § 5464(c) of the authorizing legislation that requires any funds available in a fiscal year that exceed the amount that was available in FY 2001 to be awarded to SEAs or LEAs, or both, to carry out such activities as: research and development on gifted and talented education and how it may be used to improve the education of all students, program evaluations and information collection activities, model projects and innovative strategies, technical assistance and information dissemination, distance learning opportunities, and professional development. Because the FY 2001 appropriation was $7.5 million and the FY 2003 appropriation is $11,176,875, $3,676,875 will support Priority 2 activities. To ensure the most effective use of funds for the above-stated purposes, under this second priority the Assistant Secretary will fund collaborative projects submitted by SEAs and one or more LEAs to carry out a coordinated set of activities to build capacity to serve gifted and talented students. Under this priority, either the SEA or an LEA may submit the application on behalf of the other participants in the collaborative project and either may be the fiscal agent for the collaborative project.

Waiver of Proposed Rulemaking: It is the Secretary's practice, in accordance with the Administrative Procedure Act (5 U.S.C. 553), to offer interested parties the opportunity to comment on proposed rules that are not taken directly from statute. Ordinarily, this practice would have applied to the priorities in this notice. However, section 437(d)(2) of the General Education Provisions Act (GEPA), exempts the Secretary from this rulemaking requirement where the Secretary has determined that going through rulemaking would cause extreme hardship to the intended beneficiaries of the program that would be affected by those rules or regulations. In accordance with section 437(d)(2) of GEPA, the Secretary has decided to forgo public comment with respect to the priorities in this notice in order to be able to make timely and high-quality awards. These priorities will apply only to the FY 2003 grant competition.

Absolute Priorities: Under 34 CFR 75.105(c)(3) and the Jacob K. Javits Gifted and Talented Students Education Act of 2001, the Assistant Secretary gives absolute priority to applications that meet one of the following priorities, meaning that only applications that meet one of these absolute priorities will be funded. Each application must address one of these two priorities. However, applicants cannot address both priorities in the same application. Applicants eligible to apply under both priorities must submit separate applications to address each of the priorities, and the applications will be reviewed separately.

Absolute Priority 1—Javits Demonstration Programs

Under this priority, applicants must propose to support projects to plan, implement, “scale up”, and evaluate models designed to close the achievement gap and increase the number of students from underrepresented groups who are performing at high levels. Underrepresented groups include students who are economically disadvantaged, limited English proficient, or disabled.

To meet this priority each project must include all of the following:

(1) Evidence from one or more scientifically based research and evaluation studies indicating that the proposed intervention has raised the achievement of underrepresented groups to high levels of achievement in one or more core subject areas.

(2) Evidence that the applicant has significant expertise on its leadership team in research and program evaluation, knowledge in one or more core academic subject areas, experience working with underrepresented groups, and knowledge about gifted and talented education.

(3) A sound plan for implementing the model in multiple settings.

(4) A research and evaluation plan that will yield both formative and summative information on the effectiveness of the model, including student achievement data.

Absolute Priority 2—Javits State Capacity-Building Grants

Under this priority, SEAs, in collaboration with one or more LEAs, must propose projects to improve services to gifted and talented students and develop the capacity of the State and the LEAs to serve these students more effectively. Either the SEA, or one of the participating LEAs, may submit the application on behalf of the other participants and serve as the fiscal agent for the collaborative project. Under this priority, applicants must propose to carry out one or more of the following activities:

(1) Conducting scientifically based research on methods and techniques for identifying and teaching gifted and talented students and for using gifted and talented programs and methods to serve all students; and conducting program evaluations, surveys, and the collection, analysis, and development of information needed to accomplish the proposed project.

(2) Conducting professional development (including fellowships) for personnel (including leadership personnel) involved in the education of gifted and talented students.

(3) Establishing and operating model projects and exemplary programs for serving gifted and talented students, including innovative methods for identifying and educating students who might not be served by traditional gifted and talented programs. (These model projects might include summer programs, mentoring programs, service-learning programs, and cooperative programs involving business, industry, and education.)

(4) Implementing innovative strategies, such as cooperative learning, peer tutoring, and service learning.

(5) Providing programs of technical assistance and information dissemination, including assistance and information with respect to how gifted and talented programs and methods, where appropriate, may be adapted for use by all students.

(6) Making materials and services available through State regional educational service centers, institutions of higher education, or other entities.

(7) Providing challenging, high-level course work, disseminated through technologies (including distance learning), for individual students or groups of students in schools and LEAs that would not otherwise have the resources to provide such course work.

Other Requirements

The Assistant Secretary directs the applicants' attention to the requirements in § 5464(a)(2) of the statute, stating that each applicant requesting support under the Javits program must describe how:

(1) The proposed gifted and talented services, materials, and methods can be adapted, if appropriate, for use by all students, and

(2) The proposed programs can be evaluated.

Definitions: The definitions contained in the Jacob K. Javits Gifted and Talented Students Education Act of 2001, at title IX, part A of the ESEA, apply to the Javits program and this competition. In particular, the Assistant Secretary directs applicants' attention to the following definition:

Core Academic Subjects. The term “core academic subjects” means English, reading or language arts, mathematics, science, foreign languages, civics and government, economics, arts, history, and geography. (20 U.S.C. 7801(11)).

Selection Criteria: The Assistant Secretary uses the following selection criteria to evaluate applications for new grants under this competition. Each of the two absolute priorities in this competition has separate selection criteria tailored to the specific requirements of the priority. These selection criteria are drawn from EDGAR § 75.210. In both sets of selection criteria, the maximum score for all of these criteria is 100 points. The maximum score for each criterion is indicated in parentheses.

Selection Criteria for Priority 1 (Javits Demonstration Programs)

(1) Significance. (15 points.)

In determining the significance of the proposed project, the following factors are considered:

(i) The potential contribution of the proposed project to the development and advancement of theory, knowledge, and practices in the field of study.

(ii) The potential for generalizing from the findings or results of the proposed project.

(2) Quality of the project design. (20 points.) In determining the quality of the project design of the proposed project, the following factors are considered:

(i) The extent to which the goals, objectives, and outcomes to be achieved by the proposed project are clearly specified and measurable.

(ii) The extent to which the proposed activities constitute a coherent, sustained program of research and development in the field, including, as appropriate, a substantial addition to an ongoing line of inquiry.

(iii) The extent to which the proposed project represents an exceptional approach to the priority established for the competition.

(iv) The quality of the methodology to be employed in the proposed project.

(3) Quality of project services. (20 points.) In determining the quality of the services to be provided by the proposed project, the quality and sufficiency of strategies for ensuring equal access and treatment for eligible project participants without regard to race, color, national origin, gender, age, or disability is considered. In addition, the following factors are considered:

(i) The extent to which the services to be provided by the proposed project are appropriate to the needs of the intended recipients or beneficiaries of those services.

(ii) The likelihood that the services to be provided will lead to improvements in the achievement of students as measured against rigorous academic standards.

(iii) The extent to which the services to be provided by the proposed project involve the collaboration of appropriate partners for maximizing the effectiveness of project services.

(4) Quality of project personnel. (10 points.) In determining the quality of project personnel, the extent to which the applicant encourages applications for employment without regard to race, color, national origin, gender, age, or disability is considered. In addition, the following factors are considered:

(i) The qualifications, including relevant training and experience, of the project director or principal investigator.

(ii) The qualifications, including relevant training and experience, of key project personnel.

(5) Adequacy of resources. (10 points.) In determining the adequacy of resources for the proposed project, the following factors are considered:

(i) The adequacy of support, including facilities, equipment, supplies and other resources, from the applicant organization or the lead applicant organization.

(ii) The extent to which the costs are reasonable in relation to the objectives, design, and potential significance of the proposed project.

(6) Quality of project evaluation (25 points.) In determining the quality of the project evaluation, the following factors are considered:

(i) The extent to which the methods of evaluation are thorough, feasible, and appropriate to the goals, objectives, and outcomes of the proposed project.

(ii) The extent to which the evaluation will provide guidance about effective strategies suitable for replication or testing in other settings.

Section Criteria for Priority 2 (Javits State Capacity-Building Grants)

(1) Need for the project. (15 points.) In determining the need for the project, the extent to which specific gaps or weaknesses in services, infrastructure, or opportunities have been identified and will be addressed by the proposed project, including the nature and magnitude of those gaps or weaknesses, is considered.

(2) Quality of the project design. (20 points.) In determining the quality of the design of the proposed project, the following factors are considered:

(i) The extent to which the goals, objectives, and outcomes to be achieved by the proposed project are clearly specified and measurable.

(ii) The extent to which the design of the proposed project is appropriate to, and will successfully address, the needs of the target population or other identified needs.

(iii) The extent to which the proposed project represents an exceptional approach to the priority established for the competition.

(3) Quality of project services. (15 points.) In determining the quality of the services to be provided by the proposed project, the quality and sufficiency of strategies for ensuring equal access and treatment for eligible project participants without regard to race, color, national origin, gender, age, or disability is considered. In addition, the following factors are considered:

(i) The extent to which the services to be provided by the proposed project reflect up-to-date knowledge from research and effective practice.

(ii) The likely impact of the services to be provided by the proposed project on the intended recipients of those services.

(4) Quality of project personnel. (10 points.)

In determining the quality of the project personnel, the extent to which the applicant encourages applications for employment without regard to race, color, national origin, gender, age, or disability, is considered. In addition, the following factors are considered:

(i) The qualifications, including relevant training and experience, of the project director or principal investigator.

(ii) The qualifications, including relevant training and experience, of the key project personnel.

(5) Adequacy of resources. (10 points.)

The adequacy of resources for the proposed project is considered.

(6) Quality of the management plan. (10 points.)

In determining the quality of the management plan for the proposed project, the following factors are considered:

(i) The adequacy of the management plan to achieve the objectives of the proposed project on time and within budget, including clearly defined responsibilities, timelines, and milestones for accomplishing project tasks.

(ii) The adequacy of the procedures for ensuring feedback and continuous improvement in the operation of the proposed project.

(7) Quality of the project evaluation. (20 points.)

In determining the quality of the evaluation, the following factors are considered:

(i) The extent to which the methods of evaluation are thorough, feasible, and appropriate to the goals, objectives, and outcomes of the proposed project.

(ii) The extent to which the evaluation will provide guidance about effective strategies suitable for replication or testing in other settings.

Application Procedures

Pilot Project for Electronic Submission of Applications

In FY 2003, the U.S. Department of Education is continuing to expand its pilot project for electronic submission of applications to include additional formula grant programs and additional discretionary grant competitions. The Javits program—CFDA # 84.206A is one of the programs included in the pilot project. If you are an applicant under the Javits program, you may submit your application to us in either electronic or paper format.

The pilot project involves the use of the Electronic Grant Application System (e-Application) portion of the Grant Administration and Payment System (GAPS). Users of e-Application will be entering data on-line while completing their applications. You may not e-mail a soft copy of a grant application to us. If you participate in this voluntary pilot project by submitting an application electronically, the data you enter on-line will be saved into a database. We request your participation in e-Application. We shall continue to evaluate its success and solicit suggestions for improvement.

If you participate in e-Application, please note the following:

• Your participation is voluntary.

• You will not receive any additional point value because you submit a grant application in electronic format, nor will we penalize you if you submit an application in paper format. When you enter the e-Application system, you will find information about its hours of operation.

• You may submit all documents electronically, including the Application for Federal Assistance (ED 424), Budget Information—Non-Construction Programs (ED 524), and all necessary assurances and certifications.

• After you electronically submit your application, you will receive an automatic acknowledgement, which will include a PR/Award number (an identifying number unique to your application).

• Within three working days after submitting your electronic application, fax a signed copy of the Application for Federal Assistance (ED 424) to the Application Control Center after following these steps:

(1) Print ED 424 from the e-Application system.

(2) The institution's Authorizing Representative must sign this form.

(3) Place the PR/Award number in the upper right hand corner of the hard copy signature page of the ED 424.

(4) Fax the signed ED 424 to the Application Control Center at (202) 260-1349.

• We may request that you give us original signatures on all other forms at a later date.

• Closing Date Extension in Case of System Unavailability: If you elect to participate in the e-Application pilot for the Javits program and you are prevented from submitting your application on the closing date because the e-Application system is unavailable, we will grant you an extension of one business day in order to transmit your application electronically, by mail, or by hand delivery. For us to grant this extension—

(1) You must be a registered user of e-Application, and have initiated an e-Application for this competition; and

(2)(a) The e-Application system must be unavailable for 60 minutes or more between the hours of 8:30 and 3:30 p.m., Washington, DC time, on the deadline date; or

(b) The e-Application system must be unavailable for any period of time during the last hour of operation (that is, for any period of time between 3:30 and 4:30 p.m., Washington, DC time) on the deadline date. The Department must acknowledge and confirm these periods of unavailability before granting you an extension. To request this extension you must contact either (1) the person listed elsewhere in this notice under FOR FURTHER INFORMATION CONTACT or (2) the e-GRANTS help desk at 1-888-336-8930.

You may access the electronic grant application for the Javits program at: http://e-grants.ed.gov.

We have included additional information about the e-Application pilot project in the application package.

For Applications Contact: Education Publications Center (EDPubs), P.O. Box 1398, Jessup, MD 20794-1398. Telephone (toll free): 1-877-433-7827. FAX: (301) 470-1244. If you use a telecommunications device for the deaf (TDD) you may call (toll free): 1-877-576-7734.

You may also contact ED Pubs at its Web site: http://www.ed.gov/about/ordering.jsp.

Or you may contact ED Pubs at its e-mail address: edpubs@inet.ed.gov.

If you request an application from ED Pubs, identify this competition as: CFDA number 84.206A.

FOR FURTHER INFORMATION CONTACT: For Information on Priority 1: Lar'Mara O'Neal, U.S. Department of Education, 400 Maryland Avenue, SW., Washington, DC 20202-6200. Telephone: (202) 205-1860 or via Internet: jacobk.javits@ed.gov.

For Information on Priority 2: Susan Toy, U.S. Department of Education, 400 Maryland Avenue, SW., Washington, DC 20202-6200. Telephone: (202) 260-0995 or via Internet: jacobk.javits@ed.gov.

If you use a telecommunications devise for the deaf (TDD), you may call the Federal Information Relay Service (FIRS) at 1-800-877-8339.

Individuals with disabilities may obtain this document, or an application package in an alternative format (e.g., Braille, large print, audiotape, or computer diskette) on request using the contact information provided under For Applications Contact.

Electronic Access to this Document: You may view this document, as well as all other Department of Education documents published in the Federal Register, in text or Adobe Portable Document Format (PDF) on the Internet at the following site: www.ed.gov/legislation/FedRegister.

To use PDF you must have the Adobe Acrobat Reader, which is available free at this site. If you have questions about using PDF, call the U.S. Government Printing Office (GPO) toll free, at 1-888-293-6498; or in the Washington, DC, area at (202) 512-1530.

Note: The official version of this document is the document published in the Federal Register. Free Internet access to the official edition of the Federal Register and the Code of Federal Regulations is available on GPO Access at: http://www.access.gpo.gov/nara/index.html.

Program Authority: 20 U.S.C. 7253 et seq.

Dated: May 14, 2003.
Eugene W. Hickok,
Under Secretary of Education.

[FR Doc. 03-12602 Filed 5-19-03; 8:45 am]

BILLING CODE 4000-01-P